NATIONAL SCIENCE FOUNDATION

Notice of Permit Applications Received

Under the Antarctic Conservation Act of 1978 (Pub. L. 95-541)

AGENCY: National Science Foundation.

ACTION: Notice of Permit Modification Received under the Antarctic Conservation Act of 1978, Public Law 95-541.

SUMMARY: The National Science Foundation (NSF) is required to publish a notice of requests to modify permits issued to conduct activities regulated under the Antarctic Conservation Act of 1978. NSF has published regulations under the Antarctic Conservation Act at Title 45 Part 670 of the Code of Federal Regulations. This is the required notice of a requested permit modification.

DATES: Interested parties are invited to submit written data, comments, or views with respect to this permit application by January 19, 2010. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Description of Permit Modification Requested: The Foundation issued a permit (2009-014) to Dr. Douglas P. Nowacek, Duke University on January 7, 2009. The issued permit allows the applicant to tag up to 100 Humpback and Minke whales each.

The applicant requests to collect skin and blubber samples from an additional 100 Humpback and Minke whales each. Samples will be used to determine genetic stock structure of the animals sampled as well as individual genetic identification and sex determination. Skin samples will also be collected to stable isotope analysis that provides information on the diet composition of individual whales.

Location: Antarctic Peninsula waters.

Dates: January 1, 2010 to July 31, 2010.

Nadene G. Kennedy,
Permit Officer, Office of Polar Programs.

[FR Doc. E9-29979 Filed 12-16-09; 8:45 am]

BILLING CODE 7555-01-P